DEPARTMENT OF AGRICULTURE

Office of the Secretary

7 CFR Subtitles A and B

9 CFR Chapters I, II, and III

Withdrawal of Certain Proposed Rules and Other Proposed Actions

AGENCY: Office of the Secretary, USDA.

ACTION: Notice of withdrawal.

SUMMARY: The United States Department of Agriculture (USDA) is announcing that it has withdrawn certain advance notice of proposed rulemakings (ANPRM) and proposed rules that were either published in the Federal Register more than 4 years ago without subsequent action or determined to no longer be candidates for final action. USDA is taking this action to reduce its regulatory backlog and focus its resources on higher priority actions. The Department's actions are part of an overall regulatory reform strategy to reduce regulatory burden on the public and to ensure the Spring and Fall 2017 Unified Agendas of Regulatory and Deregulatory Actions provided the public accurate information about rulemakings the Department intends to undertake.

DATES: The advance notice of proposed rulemakings and proposed rules are withdrawn on January 4, 2018.

FOR FURTHER INFORMATION CONTACT: Michael Poe, Telephone Number: (202) 720-3323. Email: Michael.poe@obpa.usda.gov.

SUPPLEMENTARY INFORMATION:

Background

USDA reviewed its pending proposed rules and other notices that published in the Federal Register more than 4 years ago, and for which no final rule or notice of withdrawal has been issued. The agency identified 14 such regulatory proposals for withdrawal. Additionally, USDA identified two proposed rules for withdrawal because they are not considered candidates for final action at this time.

Although not required to do so by the Administrative Procedure Act or by regulations of the Office of the Federal Register, the agency believes the public interest is best served by announcing in the Federal Register that it has withdrawn these 16 items. Therefore, for the reasons set forth above, USDA announces that it has withdrawn the following documents, published in the Federal Register on the dates indicated in the table below.

Agency | RIN | Title | Published action | Date | FR cite
FAS | 0551-AA68 | Quality Samples Program | NPRM | 8/03/2006 | 71 FR 43992
FAS | 0551-AA81 | Export Sales Reporting Program | NPRM | 3/19/2013 | 78 FR 16819
RUS | 0572-AC21 | Project Financing—Renewable Energy Loans | ANPRM | 6/5/2013 | 78 FR 33755
RUS | 0572-AC32 | Rural Determination and Financing Percentage | NPRM | 6/5/2013 | 78 FR 33757
APHIS | 0579-AC28 | Viruses, Serums, Toxins, and Analogous Products; Detection of Avian Lymphoid Leukosis Virus | NPRM | 1/31/2007 | 72 FR 4467
APHIS | 0579-AC65 | Tuberculosis: Require Approved Herd Plans Prior to Payment of Indemnity | NPRM | 7/24/2008 | 73 FR 43171
APHIS | 0579-AD50 | Forfeiture Procedures Under the Endangered Species Act and the Lacey Act Amendments | NPRM | 5/21/2013 | 78 FR 29659
APHIS | 0579-AD67 | Chrysanthemum White Rust Regulatory Status Restrictions | ANPRM | 8/3/2012 | 77 FR 46339
AMS | 0581-AC83 | Farmers' Market Promotion Program | NPRM | 1/19/2011 | 76 FR 3046
AMS | 0581-AD24 | Hardwood Lumber and Hardwood Plywood Research and Promotion Program | NPRM | 11/13/2013 | 78 FR 68297
AMS | 0581-AD63 | Soybean Promotion, Research, and Consumer Information; Beef Promotion and Research; Amendments to Allow Redirection of State Assessments to the National Program; Technical Amendments | NPRM | 7/15/2016 | 81 FR 45984
FNS | 0584-AC72 | National School Lunch Program: Reimbursement for snacks in afterschool care programs | NPRM | 10/11/2000 | 65 FR 60502
Forest Service | 0596-AC46 | Small Business Administration Timber Sale Set-Aside Program | NPRM | 8/1/2006 | 71 FR 43435
Forest Service | 0596-AC71 | Proposed Directive on Groundwater Resource Management, Forest Service Manual 2560 | NPRM | 5/6/2014 | 79 FR 25824
Forest Service | 0596-AC89 | Enhancing Policies Relating to Partnerships | ANPRM | 9/14/2010 | 75 FR 55710
Forest Service | 0596-AD03 | Management of Surface Activities Associated with Outstanding Mineral Rights on National Forest System Lands (Directive) | ANPRM | 12/29/2008 | 73 FR 79424

The withdrawal of these proposals identified in this document does not preclude the Department from reinstituting rulemaking concerning the issues addressed in the proposals listed in the chart. Should we decide to undertake such rulemakings in the future, we will re-propose the actions and provide new opportunities for comment. Furthermore, this notice is only intended to address the specific actions identified in this document, and not any other pending proposals that USDA has issued or is considering. The Department notes that withdrawal of a proposal does not necessarily mean that the preamble statement of the proposal no longer reflects the current position of USDA on the matter addressed. You may wish to review the Department's website (http://www.USDA.gov) for any current guidance on these matter matters.

Dated: December 26, 2017.
Rebeckah Adcock,
Regulatory Reform Officer and Senior Advisor to the Secretary.

[FR Doc. 2017-28433 Filed 1-3-18; 8:45 am]

BILLING CODE 3410-90-P